NUCLEAR REGULATORY COMMISSION

Sunshine Federal Register Notice

Agency holding the meeting: Nuclear Regulartory Commission.

Date: Weeks of August 23, 30, September 6, 13, 20, 27, 2004.

Place: Commissioners' Conference Room, 11555 Rockville Pike, Rockville, Maryland.

Status: Public and closed.

MATTERS TO BE CONSIDERED:

Week of August 23, 2004

There are no meetings scheduled for the Week of August 23, 2004.

Week of August 30, 2004—Tentative

There are no meetings scheduled for the Week of August 30, 2004.

Week of September 6, 2004—Tentative

Wednesday, September 8, 2004.

9:30 a.m. Discussion of Office of Investigations (OI) Programs and Investigations (Closed—Ex. 7).

2:00 p.m. Discussion of Intragovernmental Issues (Closed-Ex. 1 & 9).

Week of September 13, 2004—Tentative

Wednesday, September 15, 2004.

9:30 a.m. Discussion of Security Issues (Closed-Ex. 1).

Week of September 20, 2004—Tentative

There are no meetings scheduled for the Week of September 20, 2004.

Week of September 27, 2004—Tentative

There are no meetings scheduled for the Week of September 27, 2004.

*The schedule for Commission meetings is subject to change on short notice. To verify the status of meetings call (recording)—(301) 415-1292. Contact person for more information: Dave Gameroni, (301) 415-1651.

* * * * *

Additional Information

By a vote of 3-0 on August 17, the Commission determined pursuant to U.S.C. 552b(e) and § 9.107(a) of the Commission's rules that “Affirmation of Tennessee Valley Authority (Watts Bar Nuclear Plant, Unit 1, Sequoyah, Nuclear Plant, Units 1 & 2, Browns Ferry Nuclear Plant, Units 1, 2 & 3), Docket Nos. 50-390-CivP, 50-327-CivP, 50-260-CivP, 50-296-CivP; LBP-03-10 (6/26/03)” be held August 18, and on less than one week's notice to the public.

* * * * *

The NRC Commission Meeting Schedule can be found on the Internet at: http://www.nrc.gov/what-we-do/policy-making/schedule.html

* * * * *

The NRC provides reasonable accommodation to individuals with disabilities where appropriate. If you need a reasonable accommodation to participation in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 19, 2004.
Dave Gamberoni,
Office of the Secretary.

[FR Doc. 04-19402 Filed 8-20-04; 9:35 am]

BILLING CODE 7590-01-M